INTERNATIONAL TRADE COMMISSION

[USITC SE-09-018]

Government in the Sunshine Act Meeting Notice

AGENCY HOLDING THE MEETING: United States International Trade Commission.

TIME AND DATE: June 29, 2009 at 11 a.m.

PLACE: Room 101, 500 E Street, SW., Washington, DC 20436, Telephone: (202) 205-2000.

STATUS: Open to the public.

MATTERS TO BE CONSIDERED: 1. Agenda for future meetings: none.

2. Minutes.

3. Ratification List.

4. Inv. No. TA-421-7 (Remedy) (Certain Passenger Vehicle and Light Truck Tires from China)—briefing and vote. (The Commission is currently scheduled to transmit its report containing its determination, proposed recommendations on remedy, and views of the Commissioners to the President and the United States Trade Representative by July 9, 2009.)

5. Outstanding action jackets: none.

In accordance with Commission policy, subject matter listed above, not disposed of at the scheduled meeting, may be carried over to the agenda of the following meeting.

Issued: June 22, 2009.
By order of the Commission.
William R. Bishop,
Hearings and Meetings Coordinator.

[FR Doc. E9-14968 Filed 6-22-09; 4:15 pm]

BILLING CODE 7020-02-P